DEPARTMENT OF JUSTICE

Notice of Lodging of Proposed Consent Decree Under the Clean Air Act

On May 22, 2013, the Department of Justice lodged a proposed Consent Decree in United States v. PCS Nitrogen Fertilizer, L.P., Civil Action No. 2:13-cv-03660-LMA-ALC, with the United States District Court for the Eastern District of Louisiana.

The PCS Nitrogen (“PCS”) Geismar, Louisiana plant is located on about 10 acres at 10886 Highway 75 Geismar, Louisiana 70737. The facility is a phosphoric acid plant that produces phosphoric acid and manufactures nitrogen solutions, phosphate fertilizer and other industrial products. The phosphoric acid production process is subject to new source standards in the National Emissions Standard for Hazardous Air pollutants (“NESHAPS”) for phosphoric acid manufacturing plants, promulgated under Section 112 of the Clean Air Act, and codified in 40 CFR part 63, Subpart AA.

Like the rest of the phosphoric acid industry, the PCS facility uses scrubbers to control air emissions, particularly fluorides, emanating from its phosphoric acid process equipment. The facility's cooling towers are therefore subject to the maximum available control technology (“MACT”) standard set forth at 40 CFR 63.602(e).

PCS historically discharged phosphoric acid scrubber effluent into its cooling ponds, and thereafter introduced the commingled effluent and pondwater into its cooling towers in violation of 40 CFR 63.602(e). Under the proposed Decree, PCS will pay a penalty of $198,825.30 and agrees to disable the two pre-scrubber elements discharging to the ponds and cooling tower; the majority of this injunctive relief was completed as of December 20, 2012, at a cost of $105,575. The expected air pollutant benefit is a reduction in 15 million pounds/year of HF released to the atmosphere. Stack testing has confirmed that PCS's hydrogen fluoride (“HF”) emissions comply with 40 CFR part 63, Subpart A, without the operation of these pre-scrubber elements.

The Louisiana Department of Environmental Quality (“LDEQ”) is a co-plaintiff in this action, and concurs in the settlement. LDEQ will share in the penalty and coordinate with EPA to monitor and enforce compliance with the Consent Decree.

The publication of this notice opens a period for public comment on the proposed Consent Decree. Comments should be addressed to the Assistant Attorney General, Environment and Natural Resources Division, and should refer to PCS Nitrogen, D.J. Ref. #90-7-1-08209. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $10.00 (25 cents per page reproduction cost) payable to the United States Treasury.

Maureen Katz,
Assistant Chief, Environmental Enforcement Section, Environment and Natural Resources Division.

[FR Doc. 2013-13533 Filed 6-6-13; 8:45 am]

BILLING CODE 4410-15-P